DEPARTMENT OF HEALTH AND HUMAN SERVICES

Administration on Aging

[Program Announcement No. AoA-00-4]

Fiscal Year 2000 Program Announcement; Availability of Funds and Notice Regarding Applications

AGENCY: Administration on Aging, HHS.

ACTION: Announcement of availability of funds and request for applications to develop new Family Friends/Volunteer Senior Aides (VSA) projects and, in addition, to provide training and technical assistance to Family Friends/VSA projects.

SUMMARY: The Administration on Aging announces that it will hold a grant award competition, under this announced priority area, for seven (7) to eight (8) new model projects that demonstrate effective ways of planning, developing, and sustaining Family Friends/VSA programs for one (1) project to provide appropriate training and technical assistance to the Family Friends/VSA projects.

The deadline date for the submission of applications is August 14, 2000. For the model project competition, eligible applicants are restricted to public or nonprofit community-level agencies or organizations. In addition, because the primary focus of this priority area is on the establishment of new model Family Friends/VSA projects in communities other than those which have already been program sites, those agencies or organizations that have carried out Family Friends/VSA projects are not eligible for this competition. No applicant eligibility restrictions, other than public or nonprofit status, apply to the training/technical assistance competition.

Application kits are available by writing to the Department of Health and Human Services, Administration on Aging, Office of Program Development, 330 Independence Avenue, SW., Room 4261, Washington, DC 20201, or by calling 202-619-2050.

Jeanette C. Takamura,
Assistant Secretary for Aging.

[FR Doc. 00-17175 Filed 7-6-00; 8:45 am]

BILLING CODE 4154-01-M